DEPARTMENT OF THE INTERIOR

Bureau of Land Management

[CO-200-1430-ES]

COC-62979 Recreation and Public Purpose Classification; Notice of Realty Action

AGENCY: Bureau of Land Management, Interior.

ACTION: Notice of Realty Action.

SUMMARY: COC-62979 Recreation and Public Purpose Classification. The following public lands are classified as suitable for lease and patent under the Recreation and Public Purposes Act (R&PP) of July 14, 1926, as amended, 43 U.S.C. 869 et seq., and the regulations thereunder 43 CFR 2740 and 2912. The public lands involved are segregated from the public land laws including the general mining laws, except for the R&PP Act. The purpose of the classification is to segregate the site from conflicting applications and proposals pending consideration of an application from the Colorado Division of Wildlife for use as an administrative site and other educational and recreational uses.

Sixth Principal Meridian, Park County, Colorado

T. 9 S., R. 77 W.,

Sec. 27, S½N½, NW¼SE¼

Consisting of approximately 200 acres

This parcel of public land is one mile north of Fairplay on U.S. 285. The lands are not needed for Federal purposes. This action is consistent with current BLM land use planning and would be in the public interest.

DATES: Interested parties may submit comments on the classification of the land or on the lease/conveyance action on or before September 6, 2000. Please reference the applicable serial number in all correspondence. Objections will be reviewed and this realty action may be sustained, vacated, or modified. Unless vacated or modified, this realty action will become final.

ADDRESSES: Royal Gorge Field Office Manager, Bureau of Land Management, 3170 E. Main St., Canon City, CO 81212.

FOR FURTHER INFORMATION CONTACT: Stu Parker, Realty Specialist BLM, (719) 269-8546; Royal Gorge Field Office, 3170 E. Main St., Canon City, CO 81212.

Donnie R. Sparks,
Field Office Manager,

[FR Doc. 00-19656 Filed 8-2-00; 8:45 am]

BILLING CODE 4310-JB-P